DEPARTMENT OF HOMELAND SECURITY

Federal Emergency Management Agency

44 CFR Part 67

[Docket No. FEMA-B-7462]

Proposed Flood Elevation Determinations

AGENCY: Federal Emergency Management Agency (FEMA), Department of Homeland Security.

ACTION: Proposed rule.

SUMMARY: Technical information or comments are requested on the proposed Base (1% annual-chance) Flood Elevations (BFEs) and proposed BFE modifications for the communities listed below. The BFEs and modified BFEs are the basis for the floodplain management measures that the community is required either to adopt or to show evidence of being already in effect in order to qualify or remain qualified for participation in the National Flood Insurance Program (NFIP).

DATES: The comment period is ninety (90) days following the second publication of this proposed rule in a newspaper of local circulation in each community.

ADDRESSES: The proposed BFEs for each community are available for inspection at the office of the Chief Executive Officer of each community. The respective addresses are listed in the table below.

FOR FURTHER INFORMATION CONTACT: William Blanton, Engineering Management Section, Mitigation Division, Federal Emergency Management Agency, 500 C Street, SW., Washington, DC 20472, (202) 646-3151.

SUPPLEMENTARY INFORMATION: FEMA proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State, or regional entities. These proposed elevations are used to meet the floodplain management requirements of the NFIP and are also used to calculate the appropriate flood insurance premium rates for new buildings built after these elevations are made final, and for the contents in these buildings.

National Environmental Policy Act. This proposed rule is categorically excluded from the requirements of 44 CFR part 10, Environmental Consideration. No environmental impact assessment has been prepared.

Regulatory Flexibility Act. The Mitigation Division Director of the Federal Emergency Management Agency certifies that this proposed rule is exempt from the requirements of the Regulatory Flexibility Act because proposed or modified BFEs are required by the Flood Disaster Protection Act of 1973, 42 U.S.C. 4104, and are required to establish and maintain community eligibility in the NFIP. No regulatory flexibility analysis has been prepared.

Regulatory Classification. This proposed rule is not a significant regulatory action under the criteria of Section 3(f) of Executive Order 12866 of September 30, 1993, Regulatory Planning and Review, 58 FR 51735.

Executive Order 13132, Federalism. This rule involves no policies that have federalism implications under Executive Order 13132.

Executive Order 12988, Civil Justice Reform. This rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376, § 67.4.

2. The tables published under the authority of § 67.4 are proposed to be amended as follows:

State | City/town/county | Source of flooding | Location | #Depth in feet above ground. *Elevation in feet (NGVD) +Elevation in feet (NAVD): Existing | #Depth in feet above ground. *Elevation in feet (NGVD) +Elevation in feet (NAVD): Modified
South Dakota | City of Watertown | Big Sioux River | Approximately 4,675 feet downstream of 20th Avenue South | None | +1,714
|  |  | Approximately 1,900 feet upstream from the 14th Avenue North Bridge | None | +1,723
South Dakota | City of Watertown | Roby Creek | At 3rd Avenue North bridge | *1,734 | +1,735
|  |  | Approximately 3,750 feet upstream of 3rd Avenue North bridge | *1,744 | +1,745
South Dakota | City of Watertown | Pelican Lake | Pelican Lake | None | +1,717
*National Geodetic Vertical Datum.
#Depth in feet above ground.
+North American Vertical Datum.
City of Watertown:
Maps are available for inspection at: City Hall, 23 2nd Street NE, Watertown, SD.
Send comments to: The Honorable Paul Fox, Mayor, City of Watertown, 23 2nd Street NE, Watertown, South Dakota 57201.

Flooding source(s) | Location of referenced elevation | *Elevation in feet (NGVD) +Elevation in feet (NAVD) # Depth in feet above ground: Effective | *Elevation in feet (NGVD) +Elevation in feet (NAVD) # Depth in feet above ground: Modified | Communities affected
Seminole County, Florida and Incorporated Areas
Bel Air Lake |  | None | +45 | Seminole County (Uninc. Areas).
Big Lake Mary |  | *45 | +43 | City of Lake Mary.
Bird Lake |  | None | +61 | City of Longwood.
Boat Lake |  | *55 | +53 | Seminole County (Uninc. Areas).
Border Lake |  | None | +77 | Seminole County (Uninc. Areas), City of Winter Springs.
Canal Between Lake Wildmere and Fairy Lake | Approximately 175 feet downstream of Foggy Brook Place | *59 | +58 | City of Longwood.
| Approximately 63 feet downstream of Wildmere Avenue | *61 | +63
Clear Lake |  | *65 | +64 | Seminole County (Uninc. Areas).
Crane Lake |  | None | +63 | City of Longwood.
Crystal Bowl |  | *65 | +65 | City of Casselberry.
Cyrstal Lake |  | *46 | +45 | City of Lake Mary.
Dawson Lake |  | *46 | +45 | City of Lake Mary.
De Forest Lakes |  | None | +45 | Seminole County (Uninc. Areas).
Duck Pond |  | *58 | +58 | City of Casselberry.
East Lake |  | *67 | +62 | City of Longwood.
Fairy Lake |  | *58 | +58 | Seminole County (Uninc. Areas), City of Longwood.
Fairy Lake Drainage Canal | At Grant Street | *61 | +58 | City of Longwood.
| Approximately 20 feet downstream of East Lake Street | *80 | +79
Golden Lake |  | *40 | +41 | Seminole County (Uninc. Areas), City of Sanford.
Golf Course Lake 1 |  | None | +52 | City of Sanford.
Golf Course Lake 2 |  | None | +50 | City of Lake Mary.
Golf Course Lake 3 |  | None | +48 | City of Lake Mary.
Golf Course Lake 4 |  | None | +48 | City of Lake Mary.
Grace Lake |  | *66 | +67 | Seminole County (Uninc. Areas).
Grassey Lake |  | *86 | +87 | Seminole County (Uninc. Areas).
Grassy Lake Drainage. Channel to Triplet Lake | Approximately 230 feet downstream of South Triplet Drive | *56 | +56 | City of Casselberry.
| Approximately 1,170 feet upstream of Southcot Road | *79 | +80
Gull Lake |  | None | +69 | City of Longwood.
Hidden Lake |  | *39 | +39 | City of Sanford.
Island Lake (Longwood) |  | *85 | +85 | City of Longwood.
Lake 1 |  | *46 | +50 | City of Lake Mary.
Lake 13 |  | None | +51 | Seminole County (Uninc. Areas).
Lake 14 |  | None | +65 | Seminole County (Uninc. Areas).
Lake 15 |  | None | +61 | Seminole County (Uninc. Areas).
Lake 16 |  | None | +50 | Seminole County (Uninc. Areas).
Lake 17 |  | None | +25 | Seminole County (Uninc. Areas).
Lake 18 |  | None | +66 | Seminole County (Uninc. Areas).
Lake 19 |  | None | +72 | Seminole County (Uninc. Areas).
Lake 2 |  | *46 | +46 | City of Lake Mary.
Lake 20 |  | None | +68 | Seminole County (Uninc. Areas).
Lake 21 |  | None | +72 | Seminole County (Uninc. Areas).
Lake 22 |  | *51 | +50 | City of Lake Mary.
Lake 23 |  | None | +46 | Seminole County (Uninc. Areas), City of Sanford.
Lake 24 |  | None | +52 | Seminole County (Uninc. Areas), City of Sanford.
Lake 25 |  | None | +51 | City of Sanford, City of Lake Mary.
Lake 26 |  | *46 | +46 | City of Lake Mary.
Lake 27 |  | None | +47 | City of Lake Mary.
Lake 28 |  | *41 | +45 | Seminole County (Uninc. Areas).
Lake 29 |  | *41 | +44 | Seminole County (Uninc. Areas).
Lake 3 |  | *46 | +45 | City of Lake Mary.
Lake 30 |  | *49 | +48 | City of Lake Mary.
Lake 31 |  | *46 | +46 | Seminole County (Uninc. Areas).
Lake 32 |  | None | +80 | Seminole County (Uninc. Areas).
Lake 33 |  | None | +67 | City of Longwood.
Lake 34 |  | None | +60 | City of Longwood.
Lake 35 |  | *64 | +64 | Seminole County (Uninc. Areas).
Lake 36 |  | None | +86 | Seminole County (Uninc. Areas).
Lake 37 |  | None | +65 | City of Longwood.
Lake 38 |  | None | +59 | Seminole County (Uninc. Areas).
Lake 39 |  | None | +59 | Seminole County (Uninc. Areas).
Lake 40 |  | None | +41 | Seminole County (Uninc. Areas).
Lake 41 |  | None | +56 | City of Casselberry, City of Winter Springs.
Lake 42 |  | *64 | +70 | City of Casselberry.
Lake 43 |  | None | +76 | City of Casselberry.
Lake 44 |  | None | +58 | City of Casselberry.
Lake 45 |  | None | +64 | City of Casselberry.
Lake 46 |  | None | +58 | Seminole County (Uninc. Areas).
Lake 47 |  | None | +59 | Seminole County (Uninc. Areas), City of Casselberry.
Lake 48 |  | None | +61 | City of Winter Springs.
Lake 49 |  | None | +58 | City of Winter Springs.
Lake 50 |  | None | +55 | City of Winter Springs.
Lake 51 |  | None | +50 | City of Winter Springs.
Lake 52 |  | None | +52 | City of Winter Springs.
Lake 53 |  | None | +55 | City of Winter Springs.
Lake 54 |  | None | +51 | City of Winter Springs.
Lake 55 |  | None | +61 | Seminole County (Uninc. Areas).
Lake 56 |  | None | +42 | City of Winter Springs.
Lake 57 |  | None | +51 | City of Oviedo.
Lake 58 |  | None | +52 | City of Oviedo.
Lake 59 |  | None | +60 | City of Oviedo.
Lake 60 |  | None | +43 | Seminole County (Uninc. Areas).
Lake 61 |  | None | +43 | Seminole County (Uninc. Areas).
Lake 62 |  | None | +43 | Seminole County (Uninc. Areas).
Lake 63 |  | None | +26 | Seminole County (Uninc. Areas).
Lake 64 |  | None | +26 | Seminole County (Uninc. Areas).
Lake 65 |  | None | +24 | Seminole County (Uninc. Areas).
Lake 66 |  | None | +55 | Seminole County (Uninc. Areas).
Lake 67 |  | None | +52 | Seminole County (Uninc. Areas).
Lake 68 |  | None | +43 | Seminole County (Uninc. Areas).
Lake 69 |  | None | +63 | Seminole County (Uninc. Areas).
Lake 70 |  | None | +89 | Seminole County (Uninc. Areas).
Lake 71 |  | None | +64 | Seminole County (Uninc. Areas).
Lake 72 |  | None | +64 | Seminole County (Uninc. Areas).
Lake 73 |  | None | +106 | Seminole County (Uninc. Areas).
Lake 74 |  | None | +114 | Seminole County (Uninc. Areas).
Lake 75 |  | None | +125 | Seminole County (Uninc. Areas).
Lake 76 |  | *46 | +51 | City of Lake Mary.
Lake 77 |  | *46 | +51 | City of Lake Mary.
Lake 78 |  | *46 | +46 | City of Lake Mary.
Lake 79 |  | *46 | +46 | City of Lake Mary.
Lake Ada |  | *44 | +40 | City of Sanford.
Lake Alma |  | *59 | +59 | Seminole County (Uninc. Areas).
Lake Anette |  | *56 | +57 | City of Casselberry.
Lake Bingham |  | *44 | +44 | City of Lake Mary.
Lake Brantley |  | *49 | +48 | Seminole County (Uninc. Areas).
Lake Cecile |  | *56 | +57 | City of Casselberry.
Lake Charm |  | *48 | +45 | City of Oviedo.
Lake Como |  | *46 | +46 | City of Lake Mary.
Lake Concord |  | *60 | +62 | City of Casselberry.
Lake Ellen |  | *70 | +68 | City of Casselberry.
Lake Emily |  | *56 | +57 | City of Casselberry.
Lake Emma |  | *47 | +45 | City of Lake Mary.
Lake Evergreen |  | *62 | +63 | City of Longwood.
Lake Fern |  | None | +64 | City of Longwood.
Lake Gem |  | None | +74 | City of Longwood.
Lake Geoffrey |  | *48 | +51 | Seminole County (Uninc. Areas).
Lake Greenwood |  | *45 | +45 | Seminole County (Uninc. Areas), City of Casselberry.
Lake Griffin |  | *76 | +77 | City of Lake Mary, City of Casselberry, City of Longwood.
Lake Hodge |  | None | +51 | Seminole County (Uninc. Areas).
Lake Irene North |  | None | +59 | Seminole County (Uninc. Areas), City of Casselberry.
Lake Irene South |  | None | +62 | Seminole County (Uninc. Areas).
Lake Jane |  | None | +66 | City of Longwood.
Lake Jennie |  | *38 | +38 | Seminole County (Uninc. Areas).
Lake Lotus |  | *82 | +86 | Seminole County (Uninc. Areas).
Lake Lucerne |  | *58 | +58 | Seminole County (Uninc. Areas), City of Casselberry.
Lake Maltbie |  | *90 | +91 | City of Altamonte Springs.
Lake Marie |  | *56 | +57 | City of Casselberry.
Lake Minnie |  | *38 | +37 | Seminole County (Uninc. Areas).
Lake Onora |  | None | +45 | Seminole County (Uninc. Areas).
Lake Orange |  | None | +76 | City of Longwood.
Lake Ruth |  | *64 | +64 | Seminole County (Uninc. Areas), City of Longwood.
Lake Searcy |  | *67 | +70 | City of Longwood.
Lake Talmo |  | None | +59 | City of Longwood, City of Sanford.
Lake Tony |  | *61 | +59 | Seminole County (Uninc. Areas), City of Winter Springs.
Lake Wayman |  | None | +76 | City of Longwood, City of Sanford.
Lake Wildmere |  | *62 | +63 | City of Longwood.
Lake Winsor |  | *86 | +84 | City of Longwood.
Lake Yvonne |  | *56 | +57 | City of Casselberry.
Little Crystal Lake |  | *45 | +45 | Seminole County (Uninc. Areas), City of Sanford.
Little Lake Howell |  | None | +56 | Seminole County (Uninc. Areas), City of Lake Mary.
Little Lake Mary |  | *45 | +44 | City of Sanford, City of Lake Mary.
Little Lake Wildmere |  | None | +64 | City of Longwood.
Lost Lake |  | *55 | +56 | City of Casselberry.
Mud Lake |  | *85 | +85 | City of Longwood, City of Sanford.
North Side Lake |  | None | +68 | City of Longwood.
Pearl Lake (East Altamonte Springs) |  | *88 | +88 | Seminole County (Uninc. Areas), City of Altamonte Springs.
Pelican Lake |  | None | +69 | City of Longwood, City of Casselberry.
Piney Ridge Lake |  | None | +88 | City of Casselberry.
Plaza Pool |  | None | +76 | City of Casselberry.
Ponding Area 10 |  | None | +67 | Seminole County (Uninc. Areas).
Ponding Area 11 |  | *54 | +52 | Seminole County (Uninc. Areas).
Ponding Area 12 |  | *56 | +55 | Seminole County (Uninc. Areas), City of Longwood.
Ponding Area 13 |  | *58 | +56 | Seminole County (Uninc. Areas), City of Longwood.
Ponding Area 14 |  | *66 | +66 | City of Longwood.
Ponding Area 15 |  | None | +90 | Seminole County (Uninc. Areas), City of Altamonte Springs.
Ponding Area 16 |  | *55 | +57 | City of Casselberry.
Ponding Area 17 |  | *78 | +80 | City of Casselberry.
Ponding Area 18 |  | *72 | +75 | City of Casselberry.
Ponding Area 19 |  | *60 | +58 | City of Casselberry.
Ponding Area 20 |  | *56 | +57 | City of Casselberry.
Ponding Area 21 |  | None | +58 | City of Casselberry.
Ponding Area 22 |  | None | +50 | City of Winter Springs.
Ponding Area 23 |  | *46 | +46 | City of Lake Mary.
Ponding Area 26 |  | None | +47 | City of Oviedo.
Ponding Area 27 |  | None | +57 | City of Oviedo.
Ponding Area 28 |  | None | +60 | City of Oviedo.
Ponding Area 29 |  | None | +40 | Seminole County (Uninc. Areas).
Ponding Area 30 |  | None | +44 | Seminole County (Uninc. Areas).
Ponding Area 31 |  | None | +42 | Seminole County (Uninc. Areas).
Ponding Area 32 |  | None | +45 | Seminole County (Uninc. Areas).
Ponding Area 33 |  | None | +59 | Seminole County (Uninc. Areas).
Ponding Area 34 |  | None | +54 | Seminole County (Uninc. Areas).
Ponding Area 35 |  | *66 | +66 | Seminole County (Uninc. Areas).
Ponding Area 6 |  | None | +94 | Seminole County (Uninc. Areas).
Ponding Area 7 |  | None | +22 | Seminole County (Uninc. Areas), City of Altamonte Springs.
Ponding Area 8 |  | None | +61 | City of Sanford.
Ponding Area 9 |  | *59 | +59 | Seminole County (Uninc. Areas).
Pot Lake |  | *88 | +88 | City of Altamonte Springs.
Prairie Lake |  | *88 | +88 | Seminole County (Uninc. Areas).
Quail Pond |  | *65 | +65 | City of Casselberry, City of Altamonte Springs.
Queens Mirror Lake |  | *56 | +56 | City of Casselberry.
Reservoir Lake |  | *46 | +44 | Seminole County (Uninc. Areas).
Rock Lake |  | *82 | +83 | Seminole County (Uninc. Areas), City of Sanford.
Sand Lake |  | *116 | +115 | Seminole County (Uninc. Areas), City of Longwood.
Secret Lake |  | *55 | +55 | City of Casselberry.
Secret Lake Drainage Canal | Approximately 25 feet upstream of Secret Way | *55 | +56 | City of Casselberry.
| Approximately 30 feet downstream of Sunset Drive | *55 | +59
Silver Lake |  | None | +44 | Seminole County (Uninc. Areas).
Soldier Creek | Approximately 85 feet upstream of CSX Railroad | *42 | +41 | Seminole County (Uninc. Areas), City of Longwood.
| Approximately 65 feet upstream of 14th Avenue | *60 | +60
Triplet Lake (North) |  | *55 | +55 | City of Casselberry, City of Winter Springs.
Triplet Lake (South) |  | *55 | +56 | City of Casselberry.
Trout Lake (Casselberry) |  | *81 | +80 | Seminole County (Uninc. Areas), City of Casselberry, City of Longwood.
Twin Lakes (Sanford East) |  | *47 | +45 | Seminole County (Uninc. Areas), City of Sanford.
Twin Lakes (Sanford West) |  | *51 | +50 | Seminole County (Uninc. Areas), City of Sanford, City of Mary Lake.
West Lake |  | *66 | +65 | City of Longwood.
# Depth in feet above ground.
* National Geodetic Vertical Datum.
+ National American Vertical Datum.
ADDRESSES:
City of Altamonte Springs
Maps are available for inspection at 225 Newburyport Avenue, Altamonte Springs, FL, 32701.
Send comments to Mr. Phillip D. Penland, City Manager, City of Altamonte Springs, 225 Newburyport Avenue, Altamonte Springs, FL, 32701.
City of Casselberry
Maps are available for inspection at 95 Triplet Lake Drive, Casselberry, FL 32707.
Send comments to Mr. Michael L. Stampfler, City Manager, City of Casselberry, 95 Triplet Lake Drive, Casselberry, FL 32707.
City of Lake Mary
Maps are available for inspection at 911 Wallace Court, Lake Mary, FL, 32746.
Send comments to Mr. John C. Litton, City Manager, City of Lake Mary, 100 North Country Club Road, Lake Mary, FL 32746.
City of Longwood
Maps are available for inspection at 175 West Warren Avenue, Longwood, FL 32750.
Send comments to Mr. John J. Drago, City Administrator, City of Longwood, 175 West Warren Avenue, Longwood, FL 32750.
City of Oviedo
Maps are available for inspection at 400 Alexandria Boulevard, Oviedo, FL 32765.
Send comments to Mr. Gerald Seeber, City Manager, City of Oviedo, 400 Alexandria Boulevard, Oviedo, FL 32765.
City of Sanford
Maps are available for inspection at 300 North Park Avenue, Sanford, FL 32771.
Send comments to Mr. Robert Yehl, City Manager, City of Sanford, 300 North Park Avenue, Sanford, FL 32771.
City of Winter Springs
Maps are available for inspection at 1126 East S.R. 434, Winter Springs, FL 32708.
Send comments to Mr. Ronald W. McLemore, City Manager, City of Winter Springs, 1126 East S.R. 434, Winter Springs, FL 32708.
Unincorporated Areas of Seminole County
Maps are available for inspection at Seminole County Serviced Building, 1101 East First Street, Sanford, FL 32771.
Send comments to Don Fisher, County Manager, Seminole County, 1101 East First Street, Sanford, FL 32771.
Ascension Parish, Louisiana and Incorporated Areas
Bayou Boyle | At the confluence of Bayou Conway and Bayou Boyle | None | +7 | Ascension County (Uninc. Areas), City of Gonzales.
| At the intersection of Bayou Boyle and S. St. Landry Avenue | None | +10
Bayou Conway | At the confluence of Panama Canal and Bayou Conway | *7 | +7 | Ascension Couonty (Uninc. Areas), City of Gonzales.
| At the divergence of Panama Canal and Bayou Conway | None | +9
Bayou Francois | At the confluence of New River and Bayou Francois | *5 | +8 | Ascension County (Uninc. Areas), City of Gonzales.
| At the intersection of State Route 431 and Bayou Francois | *7 | +8
McCall Bayou | At the confluence of McCall Bayou and Smokebend Canal | None | +19 | Ascension County (Uninc. Areas), City of Donaldsonville.
| At the intersection of Texas and Pacific Railroad and McCall Bayou | None | +19
Middle Branch of Grand Goudine Bayou | At the intersection of Highway 10 and Middle Branch of Grand Goudine Bayou | *13 | +15 | Ascension County (Uninc. Areas).
| Approximately 200 feet downstream the intersection of Highway 10 and Middle Branch of Grand Goudine Bayou | *13 | +15
Northern Branch of Grand Goudine Bayou | At the confluence of New River and Northern Branch of Grand Goudine Bayou | *13 | +11 | Ascension County (Uninc. Areas).
| Northern Branch of Grand Goudine Bayou | None | +18
Saveiro Canal | At the confluence of New River Canal and Saveiro Canal | None | +7 | Ascension County (Uninc. Areas).
| At the confluence of Babin Canal and Saveiro Canal | None | +8
Smith Bayou Diversion | At the confluence of Bayou Francois and Smith Bayou Diversion | None | +11 | Ascension County (Uninc. Areas).
| At the confluence of Bayou Francois and Smith Bayou Diversion | None | +11
Southern Branch of Grand Goudine | At Intersection of Highway 10 and Southern Branch of Goudine Bayou | *13 | +15 | Ascension County (Uninc. Areas).
| At Intersection of Southern Branch of Grand Goudine Bayou and State Highway 73 | *13 | +15
# Depth in feet above ground.
* National Geodetic Vertical Datum.
+ National American Vertical Datum.
ADDRESSES:
City of Donaldsonville
Maps are available for inspection at City of Donaldsonville, 609 Railroad, Donaldsonville, LA 70346.
Send comments to the Honorable Leroy Sullivan, Mayor, City of Donaldsonville, P.O. Box 470, Donaldsonville, LA 70346.
City of Gonzales
Maps are available for inspection at City Hall, 120 South Irma Blvd., Gonzales, LA 70737.
Send comments to the Honorable John Berthelot, Mayor, City of Gonzalez, City Hall, Gonzalez, LA 70737.
Unincorporated Areas of Ascension Parish
Maps are available for inspection at President's Office, 208 East Railroad Avenue, Gonzalez, LA 70737.
Send comments to the Honorable Ronnie Hughes, Parish President, Ascension Parish, Presidents Office, Gonzalez, LA 70737.
Licking County, Ohio and Incorporated Areas
South Fork Licking River | Approximately 0.7 miles upstream of Gale Road | *920 | +918 | Village of Kirkersville.
| Approximately 1.0 miles downstream of York Road | *933 | +931
North Fork Licking River | Approximately 1,4000 feet upstream of Mt. Vernon Road | None | +890 | Village of St. Louisville.
| Approximately 0.6 miles upstream of Mt. Vernon Road | None | +897
Rocky Fork (Backwater from Licking River) | Approximately 200 feet upstream of Bridge Street | None | +792 | Village of Hanover.
| Approximately 200 feet upstream of State Route 16 | None | +792
# Depth in feet above ground.
* National Geodetic Vertical Datum.
+ National American Vertical Datum.
ADDRESSES:
Village of Hanover
Maps are available for inspection at Hanover Village Hall, 200 New Home Drive NE, Hanover, Ohio.
Send comments to the Honorable Duane Flowers, Mayor, 200 New Home Drive NE, Hanover, Ohio 43005.
Village of Kirkersville
Maps are available for inspection at Kirkersville Village Hall, 135 N 5th Street, Kirkersville, Ohio.
Send comments to Mr. Mike Cloud, Zoning, 135 N 5th Street, Kirkersville, Ohio 43033.
Village of St. Louisville
Maps are available for inspection at Village of St. Louisville, 257 South Sugar Street, St. Louisville, Ohio.
Send comments to Mr. Dennis Ankrum, 257 South Sugar Street, St. Louisville, Ohio 43071.
Calhoun County, South Carolina and Incorporated Areas
Lake Marion | At the Sumter County/Clarendon County line | None | +76 | Calhoun County (Unincorporated Areas).
| At the Calhoun County/Orangeburg County line | None | +76
# Depth in feet above ground.
* National Geodetic Vertical Datum.
+ National American Vertical Datum.
ADDRESSES:
Unincorporated Areas of Calhoun County
Maps are available for inspection at Calhoun County, Office of Building and Planning, 102 Courthouse Drive, Suite 112, St. Matthews, SC 29135.
Send comments to the Honorable Mr. David Summers Jr., Calhoun County Council Chairman, 102 Courthouse Drive, Suite 108, St. Matthews, SC 29135.
Saluda County, South Carolina and Incorporated Areas
Big Creek | Approximately 510 feet downstream of Shiloh Road | None | 420+ | Saluda County (Unincorporated Areas).
| Approximately 760 feet upstream of Shiloh Road | None | 424+
Little Saluda River | Approximately 570 feet downstream of U.S. Highway 378 | None | 386+ | Saluda County (Unincorporated Areas), Town of Saluda.
| Approximately 4,870 feet upstream of U.S. Highway 378 | None | 396+
Lake Murray | Approximately 2,000 feet north of the intersection of Holly Ferry Road and Laurel Rock Point | None | 362+ | Saluda County (Unincorporated Areas).
| At State Route 391 | None | 362+
# Depth in feet above ground.
* National Geodetic Vertical Datum.
+ National American Vertical Datum.
ADDRESSES:
Unincorporated Areas of Saluda County
Maps are available for inspection at 615 Bonham Road, Saluda, South Carolina 29138.
Send comments to Mr. T. Hardee Horne, Chairman, County Council, 615 Bonham Road, Saluda, South Carolina 29138.
Town of Saluda
Maps are available for inspection at 100 South Jefferson Street, Saluda, South Carolina 29138.
Send comments to the Honorable Amelia M. Herlong, Mayor, Town of Saluda, 100 South Jefferson Street, Saluda, South Carolina 29138.
Town of Monetta
Maps are available for inspection at 21 Walden Street, Monetta, SC 29150.
Send comments to the Honorable Henry J. Riddlehoover, Mayor, Town of Monetta, 21 Walden Street, Monetta, SC 29150.
Town of Ridge Spring
Maps are available for inspection at 101 Town Square, P.O. Box 444, Ridge Spring, SC 29129-0444.
Send comments to Mr. Nanette Hughes, Town Administrator, Town of Ridge Spring, 101 Town Square, P.O. Box 444, Ridge Spring, SC 29129-0444.
Town of Ward
Maps are available for inspection at 113 East Front Street, Ward, SC 29166.
Send comments to the Honorable Leroy Smith, Mayor, Town of Ward, 113 East Front Street Ward, SC 29166.
City of Harrisonburg, Independent City, Virginia
Blacks Run | Just upstream of Early Road | *1198 | +1199 | City of Harrisonburg.
| Approximately 400 feet downstream of Acorn Drive | *1374 | +1376
| Approximately 399 feet downstream of Acorn Drive | *1374 | None
Blacks Run Tributary No. 1 | Approximately at the confluence with Blacks Run | *1265 | +1269 | City of Harrisonburg.
| Approximately 1180 feet upstream of Terri Drive | *1448 | +1453
| Approximately 1181 feet upstream of Terri Drive | *1448 | None
Blacks Run Tributary No. 2 | Approximately 80 feet upstream of the confluence with Blacks Run Tributary No. 1 | *1267 | +1270 | City of Harrisonburg.
| Approximately 1400 feet upstream of Peach Grove Avenue | *1378 | +1377
| Approximately 1401 feet upstream of Peach Grove Avenue | *1378 | None
Blacks Run Tributary No. 3 | Approximately at the confluence with Blacks Run Tributary No 1 | *1306 | +1307 | City of Harrisonburg.
| Approximately 80 feet downstream of Reservoir Street | *1416 | +1418
| Approximately 150 feet upstream of Reservoir Street | *None | +1430
Blacks Run Tributary No. 4 | Approximately at the confluence with Blacks Run Tributary No 1 | *1407 | None | City of Harrisonburg.
| Approximately 340 feet upstream of Keezletown Road | *1440 | None
Sunset Heights Branch | Approximately 650 feet upstream of Erickson Avenue | *1270 | +1271 | City of Harrisonburg.
| Approximately 150 feet downstream of West Market Street | *1337 | +1336
| Approximately 1100 feet upstream of West Market Street | None | +1364
West Fork Sunset Heights Branch | Approximately at the confluence of Sunset Heights Branch | *1306 | +1309 | City of Harrisonburg.
| Approximately 900 feet upstream of Garbers Church Road | *1359 | +1364
| Approximately 1100 feet upstream of Garbers Church Road | None | +1366
# Depth in feet above ground.
* National Geodetic Vertical Datum.
+ National American Vertical Datum.
Individual points for the City of Harrisonburg were processed to obtain place specific conversion factors. These individual point factors were then averaged throughout the community to obtain an average community wide conversion factor of .443 feet. To convert between NAVD and NGVD for the City of Harrisonburg use the following formula: NAVD = NGVD−0.443.
City of Harrisonburg
Maps are available for inspection at City of Harrisonburg, Department of Community Development, 409 South Main Street, Harrisonburg, Virginia 22801.
Send comments to The Honorable Roger Baker, Manager, City of Harrisonburg, 345 South Main Street, Harrisonburg, Virginia 22801.

(Catalog of Federal Domestic Assistance No. 83.100, “Flood Insurance.”)

Dated: June 8, 2006.
Michael K. Buckley,
Deputy Director, Mitigation Division, Federal Emergency Management Agency, Department of Homeland Security.

[FR Doc. E6-9520 Filed 6-16-06; 8:45 am]

BILLING CODE 9110-12-P